DEPARTMENT OF AGRICULTURE

Forest Service

Forest Resource Coordinating Committee

AGENCY: Forest Service, USDA.

ACTION: Notice of meeting.

SUMMARY: The Forest Resource Coordinating Committee will meet in Washington, DC, February 6 and 7, 2014. The Committee is authorized under Section 8005 of the Food, Conservation, and Energy Act of 2008 (Pub. L. 110-246). Additional information on the Forest Resource Coordinating Committee can be found by visiting the Committee's Web site at: http://www.fs.fed.us/spf/coop/frcc/.

DATES: The meeting will be held on February 6 and 7, 2014 from 8:30 a.m. to 5:00 p.m.

ADDRESSES: The meeting will be held at the USDA Whitten Building, 1400 Independence Ave. SW., Conference Room 108-A, Washington, DC. Written comments may be submitted as described under Supplementary Information. All comments, including names and addresses when provided, are placed in the record and are available for public inspection and copying. The public may inspect comments received on the Forest Resource Coordinating Committee Web site listed above. Visitors are encouraged to call ahead of time to facilitate entry into the Whitten Building.

FOR FURTHER INFORMATION CONTACT: Maya Solomon, Forest Resource Coordinating Committee Program Coordinator, Cooperative Forestry Staff, 202-205-1376 or Karl Dalla Rosa, Cooperative Forestry Staff, 202-205-6206. Individuals who use telecommunication devices for the deaf (TDD) may call the Federal Information Relay Service (FIRS) at 1-800-877-8339 between 8:00 a.m. and 8:00 p.m., Eastern Standard Time, Monday through Friday.

SUPPLEMENTARY INFORMATION: The purpose of this meeting is to develop recommendations to submit to the Secretary regarding alignment of landowner assistance delivery systems, forest inventory and analysis, markets, climate change adaptation, forest conditions, threats to forest health, and landscape scale conservation and management. The meeting is open to the public. All meetings are subject to change or cancellation.

Anyone who would like to bring related matters to the attention of the Committee or to make an oral statement should request in writing by February 3, 2014. The agenda will include time for people to make oral statements of three minutes or less. Written comments and requests for time for oral comments must be sent to Maya Solomon, Forest Resource Coordinating Committee Program Coordinator at 1400 Independence Ave. SW., mailstop 1123, Washington, DC 20250; by email to mayasolomon@fs.fed.us. A summary of the meeting will be posted on the Web site listed above within 21 days after the meeting.

Meeting Accommodations: If you are a person requiring reasonable accommodation, please make requests in advance for sign language interpreting, assistive listening devices or other reasonable accommodations for access to the facility or proceedings by contacting the person listed under the For Further Information Contact. All reasonable accommodation requests are managed on a case by case basis.

Dated: November 29, 2013.
Paul Ries,
Associate Deputy Chief, State and Private Forestry.

[FR Doc. 2013-29238 Filed 12-6-13; 8:45 am]

BILLING CODE 3410-11-P